DEPARTMENT OF THE INTERIOR

Bureau of Ocean Energy Management

[Docket No. BOEM-2016-0009]

Outer Continental Shelf (OCS), Gulf of Mexico, Oil and Gas Lease Sales for 2017-2022 MMAA104000

AGENCY: Bureau of Ocean Energy Management (BOEM), Interior.

ACTION: Notice of Availability (NOA) of a Draft Environmental Impact Statement (EIS).

SUMMARY: BOEM is announcing the availability of a Draft EIS for Gulf of Mexico OCS oil and gas lease sales tentatively scheduled from 2017-2022 (2017-2022 Gulf of Mexico Multisale Draft EIS or Draft Environmental Impact Statement). BOEM proposes to conduct 10 region-wide Gulf of Mexico oil and gas lease sales during this five-year period that are tentatively scheduled in the Proposed 2017-2022 OCS Oil and Gas Leasing Program (Five-Year Program). The lease sales proposed in the Gulf of Mexico in the Five-Year Program are region-wide lease sales comprised of the Western and Central Planning Areas, and a small portion of the Eastern Planning Area this is not subject to Congressional moratorium. As Federal regulations allow for several related or similar proposals to be analyzed in one EIS (40 CFR 1502.4), the 2017-2022 Gulf of Mexico Multisale Draft EIS provides the environmental analyses necessary for all 10 region-wide Gulf of Mexico oil and gas lease sales tentatively scheduled in the Five-Year Program. As a decision on whether and how to proceed with each proposed lease sale in the Five-Year Program is made individually, the proposed action considered in the 2017-2022 Gulf of Mexico Multisale Draft EIS is comprised of a single region-wide sale in the Gulf of Mexico. The Draft EIS provides a discussion of the potential significant impacts of a proposed action and an analysis of reasonable alternatives to the proposed action. This NOA also serves to announce the beginning of the public comment period for the Draft EIS.

The Draft EIS and associated information are available on BOEM's Web site at http://www.boem.gov/nepaprocess/. BOEM will primarily distribute digital copies of the Draft EIS on compact discs. You may request a paper copy or the location of a library with a digital copy of the Draft EIS from the Bureau of Ocean Energy Management, Gulf of Mexico OCS Region, Public Information Office (GM 250C), 1201 Elmwood Park Boulevard, Room 250, New Orleans, Louisiana 70123-2394 (1-800-200-GULF).

DATES: Comments should be submitted no later than June 6, 2016.

FOR FURTHER INFORMATION CONTACT: For more information on the Draft EIS, you may contact Mr. Gary D. Goeke, Bureau of Ocean Energy Management, Gulf of Mexico OCS Region, Office of Environment (GM 623E), 1201 Elmwood Park Boulevard, New Orleans, Louisiana 70123-2394 or by email at multisaleeis2017-2022@boem.gov. You may also contact Mr. Goeke by telephone at 504-736-3233.

SUPPLEMENTARY INFORMATION: Federal, State, Tribal, and local governments and/or agencies and the public may submit written comments on this Draft EIS through the following methods:

1. Federal eRulemaking Portal: http://www.regulations.gov. In the field entitled, “Enter Keyword or ID,” enter “Oil and Gas Lease Sales: Gulf of Mexico, Outer Continental Shelf; 2017-2022 Gulf of Mexico Multisale Draft EIS” (Note: It is important to include the quotation marks in your search terms.), and then click “search.” Follow the instructions to submit public comments and view supporting and related materials available for this notice;

2. U.S. mail in an envelope labeled “Comments for the 2017-2022 Gulf of Mexico Multisale Draft EIS” and addressed to Mr. Gary D. Goeke, Chief, Environmental Assessment Section, Office of Environment (GM 623E), Bureau of Ocean Energy Management, Gulf of Mexico OCS Region, 1201 Elmwood Park Boulevard, New Orleans, Louisiana 70123-2394. Comments must be postmarked by the last day of the comment period to be considered. This date is June 6, 2016; or

3. Via email to multisaleeis2017-2022@boem.gov.

BOEM will hold public meetings to obtain comments regarding the Draft Environmental Impact Statement. The meetings are scheduled as follows:

• Beaumont, Texas: Monday, May 9, 2016, Holiday Inn Hotel and Suites Beaumont—Plaza, 3950 I-10 South at Walden Road, Beaumont, Texas 77705, one meeting beginning at 4:30 p.m. CDT;

New Orleans, Louisiana: Thursday, May 12, 2016, Sheraton Metairie—New Orleans Hotel, 4 Gallaria Boulevard, Metairie, Louisiana 70001, one meeting beginning at 1:00 p.m. CDT;

• Panama City, Florida: Tuesday, May 17, 2016, Bay Point Golf Resort and Spa, 4114 Jan Cooley Drive, Panama City Beach, Florida 32408, one meeting beginning at 4:30 p.m. CDT;

• Mobile, Alabama: Wednesday, May 18, 2016, Renaissance Mobile Riverview Plaza Hotel, 64 South Water Street, Mobile, Alabama 36602, one meeting beginning at 4:30 p.m. CDT; and

• Gulfport, Mississippi: Thursday, May 19, 2016, Courtyard by Marriott, Gulfport Beachfront MS Hotel, 1600 East Beach Boulevard, Gulfport, Mississippi 39501, one meeting beginning at 4:30 p.m. CDT.

Before including your address, phone number, email address, or other personal identifying information in your comment, you should be aware that your entire comment, including your personal identifying information, may be made publicly available at any time. While you can ask us in your comments to withhold your personal identifying information from public review, we cannot guarantee that we will be able to do so.

Authority: This NOA of a Draft EIS is in compliance with the National Environmental Policy Act of 1969, as amended (42 U.S.C. 4321 et seq.), and is published pursuant to 43 CFR 46.415.

Dated: April 15, 2016.
Abigail Ross Hopper,
Director, Bureau of Ocean Energy Management.

[FR Doc. 2016-09420 Filed 4-21-16; 8:45 am]

BILLING CODE 4310-MR-P